DEPARTMENT OF LABOR

Employment and Training Administration

[TA-W-40,354]

International Paper Company, Erie, Pennsylvania; Including Contract Employees of Honeywell, Inc. Employed at International Paper Company Erie, Pennsylvania Amended Certification Regarding Eligibility to Apply for Worker Adjustment Assistance

In accordance with section 223 of the Trade Act of 1974 (19 USC 2273) the Department of Labor issued a Certification of Eligibility to Apply for Worker Adjustment Assistance on February 4, 2002, applicable to workers of International Paper Company, Erie, Pennsylvania. The notice was published in the Federal Register on February 28, 2002 (67 FR 9326).

At the request of Honeywell, Inc., the Department reviewed the certification for workers of the subject firm.

Information provided by the company shows that some workers at International Paper, Erie, Pennsylvania were contracted from Honeywell, Inc. to maintain and operate automated control systems required for the production of hardwood pulp and writing, text and cover paper produced at the Erie, Pennsylvania location of the subject firm.

Based on these findings, the Department is amending the certification to include contract workers of Honeywell, Inc., employed at International Paper Company, Erie, Pennsylvania.

The intent of the Department's certification is to include all workers at International Paper Company, Erie, Pennsylvania, adversely affected by imports.

The amended notice applicable to TA-W-40,354 is hereby issued as follows:

All workers of International Paper Company, Erie, Pennsylvania including contract workers of Honeywell, Inc. engaged in employment related to the maintenance and operation of automated control systems required for the production of hardwood pulp and writing, text and cover paper at International Paper Company, Erie, Pennsylvania who became totally or partially separated from employment on or after November 2, 2000, through February 4, 2004, are eligible to apply for adjustment assistance under Section 223 of the Trade Act of 1974.

Signed at Washington, DC this 1st day of March, 2002.
Linda G. Poole,
Certifying Officer, Division of Trade Adjustment Assistance.

[FR Doc. 02-6668 Filed 3-19-02; 8:45 am]

BILLING CODE 4510-30-M